DEPARTMENT OF ENERGY

Federal Energy Regulatory Commission

[Docket Nos. CP04-223-000 and CP04-293-000]

KeySpan LNG, L.P.; Notice of Application

May 7, 2004.

Take notice that on April 30, 2004, KeySpan LNG, L.P. (KeySpan LNG) filed in Docket Nos. CP04-223-000 and CP04-293-000 an application pursuant to sections 3 and 7(b) of the Natural Gas Act (NGA) seeking authorization to site, construct and operate liquefied natural gas (LNG) terminal facilities as well as to abandon certain existing facilities in the City of Providence, Rhode Island. KeySpan LNG currently owns and operates an existing LNG Terminal in Providence and proposes to upgrade that facility by converting it to an LNG Terminal capable of receiving marine deliveries and augmenting the facility's existing vaporization system. KeySpan LNG states that services LLC (BG) has committed to contract for the full capacity of the LNG Terminal. KeySpan LNG states that the proposed LNG terminal will connect to Algonquin Gas Transmission Company (Algonquin), an existing interstate pipeline and that Algonquin will file a separate application pursuant to section 7(c) to construct and operate the connecting facilities.

These applications are on file with the Commission and open to public inspection. These filings are available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659. Any initial questions regarding these applications should be directed to William T. Orr, President, KeySpan LNG, L.P., 121 Terminal Road, Providence, Rhode Island 02905, Phone: (401) 785-4590.

There are two ways to become involved in the Commission's review of this project. First, any person wishing to obtain legal status by becoming a party to the proceedings for this project should, on or before the below listed comment date, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Those providing environmental comments will be placed on the Commission's environmental mailing list, will receive copies of the environmental documents, and will be notified of meetings associated with the Commission's environmental review process. The environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the internet in lieu of paper; see, 18 CFR 385.2001(a)(1)(iii) and the instructions on the Commission's Web site under the “e-Filing” link. The Commission strongly encourages electronic filings.

Comment Date: May 21, 2004.

Magalie R. Salas,
Secretary.

[FR Doc. E4-1139 Filed 5-12-04; 8:45 am]

BILLING CODE 6717-01-P